DEPARTMENT OF ENERGY

Federal Energy Regulatory Commission

[Docket No. CP05-83-000]

Sempra Port Arthur LNG; Notice of Technical Conference

April 27, 2005.

On Tuesday, May 17, 2005, at 8:30 a.m. (CST), staff from the Commission's Office of Energy Projects will convene a cryogenic design and technical conference regarding the proposed Sempra Port Arthur LNG import terminal. The cryogenic conference will be held at the Holiday Inn Port Arthur-Park Central located at 2929 Jimmy Johnson Blvd., Port Arthur, TX. For hotel details call (409) 724-5000.

In view of the critical energy infrastructure information and security issues to be explored, the cryogenic conference will not be open to the public. Attendance at this conference will be limited to existing parties to the proceeding (anyone who has specifically requested to intervene as a party) and to representatives of interested Federal, State, and local agencies. Any person planning to attend this May 17th cryogenic conference must register by close of business on Friday, May 13, 2005. Registrations may be submitted either online at http://www.ferc.gov/whats-new/registration/cryo-conf-form.asp or by faxing a copy of the form (found at the referenced online link) to (202) 208-0353. All attendees must sign a non-disclosure statement prior to entering the conference. Upon arrival at the hotel, check the reader board in the hotel lobby for venue. For additional information regarding the cryogenic conference, please contact Steven Busch at steven.busch@ferc.gov or (202) 502-6353.

Magalie R. Salas,
Secretary.

[FR Doc. E5-2159 Filed 5-3-05; 8:45 am]

BILLING CODE 6717-01-P